DEPARTMENT OF TRANSPORTATION

Federal Aviation Administration

14 CFR Part 71

[Airspace Docket No. 2000-ANE-91]

Establishment of Class D and Class E Airspace; Oxford, CT

AGENCY: Federal Aviation Administration (FAA), DOT.

ACTION: Final rule.

SUMMARY: This action establishes Class D and Class E airspace areas at Oxford, CT (KOXC) to accommodate a new Air Traffic Control Tower at Waterbury-Oxford Airport, Oxford, Connecticut.

EFFECTIVE DATE: 0901 UTC, May 17, 2001.

FOR FURTHER INFORMATION CONTACT: Michael A. Baney, Air Traffic Division, Airspace Branch, ANE-520.7, Federal Aviation Administration, 12 New England Executive Park, Burlington, MA 01803-5299; telephone (781) 238-7586; fax (781) 238-7596.

SUPPLEMENTARY INFORMATION:

History

On March 17, 2000, the FAA published a Notice of Proposed Rulemaking to amend part 71 of the Federal Aviation Regulations (14 CFR part 71) by establishing Class D and Class E airspace areas in the vicinity of Oxford, CT. This action resulted from notice by the State of Connecticut that it had approved plans for the construction of a permanent Air Traffic Control Tower (ATCT) at Waterbury-Oxford Airport (KOXC), Oxford, Connecticut. The State has applied to have the ATCT operated under the FAA Contract Tower Program. Accordingly, the State requested that the FAA establish a Class D airspace area in vicinity of the Waterbury-Oxford Airport commensurate with the commissioning of the new ATCT. Air traffic at the Waterbury-Oxford Airport has grown over recent years and presently includes both high-speed jets and slower speed reciprocating powered light aircraft, as well as rotorcraft.

The FAA establishes Class D airspace where necessary to provide a safe environment for aircraft transiting between the enroute and terminal airspace structures. This is particularly true when aircraft with greatly different performance characteristics operate at the same airport. Class D airspace areas encompass that airspace in the vicinity of an airport from the surface upward to a specified altitude in which pilots of aircraft must establish and maintain two-way radio communications with the ATCT at that airport. This action creates a Class D airspace area in the vicinity of the Waterbury-Oxford Airport extending upward from the surface to 3,200 feet MSL within a 5-mile radius of the airport. In addition, the FAA finds that a Class E airspace area, extending from the surface as an extension of the Class D airspace area, is necessary in order to provide sufficient controlled airspace to accommodate those aircraft arriving at the airport using a standard instrument approach procedure (SIAP). The Waterbury-Oxford Airport has a SIAP that requires the establishment of a Class E surface airspace area extending to northwest of the airport along the Waterbury (TBY) NDB 353° bearing to a point 7.6 miles from the airport. This action provides for the safe and efficient use of the navigable airspace in the vicinity of the Waterbury-Oxford Airport, and promote safe flight operations under both Instrument Flight Rules (IFR) and Visual Flight Rules (VFR) by aircraft transiting to and from the enroute airspace structure.

Interested parties were invited to participate in this rulemaking proceeding by submitting written comments on the proposal to the FAA. No comments were received. Based on further review of the proposal, the FAA had corrected the latitude coordinate for the Waterbury-Oxford Airport from 41°28′46″ N to 41°28′43″ N, and has added the latitude and longitude coordinates for the Waterbury (TBY) Non-Directional Beacon (NDB) to the description of the new Class E airspace area. The coordinates for this airspace action are based on North American Datum 83. These changes neither increase the scope of this action nor change any of the agency's findings with respect to this action.

Class D airspace designations are published in Paragraph 5000 of FAA Order 7400.9H, and Class E airspace designations for airspace designated as extensions of a Class D airspace area are published in paragraph 6004 of FAA Order 7400.9H. FAA Order 7400.9H, dated September 1, 2000, and effective September 16, 2000, is incorporated by reference in 14 CFR 71.1. The Class D and Class E airspace designations listed in this document will be published subsequently in this Order.

The Rule

This amendment to part 71 of the Federal Aviation Regulations (14 CFR part 71) establishes Class D and Class E airspace areas in the vicinity of Oxford, CT.

The FAA has determined that this regulation only involves an established body of technical regulations for which frequent and routine amendments are necessary to keep them operationally current. Therefore, this regulation (1) is not a “significant regulatory action” under Executive Order 12866; (2) is not a “significant rule” under Department of Transportation (DOT) Regulatory Policies and Procedures (44 FR 11034, February 26, 1979); and (3) does not warrant preparation of a Regulatory Evaluation as these routine matters will only affect air traffic procedures and air navigation. It is certified that these proposed rules will not have significant economic impact on a substantial number of small entities under the criteria of the Regulatory Flexibility Act.

List of Subjects in 14 CFR Part 71

Airspace, Incorporation by reference, Navigation (air).

Adoption of the Amendment

In consideration of the foregoing, the Federal Aviation Administration amends part 71 of the Federal Aviation Regulations (14 CFR part 71) as follows:

PART 71—[AMENDED]

1. The authority citation for part 71 continues to read as follows:

Authority: 49 U.S.C. 106(g), 40103, 40113, 40120; E.O. 10854, 24 FR 9565, 3 CFR, 1959-1963 Comp., p. 389.

2. The incorporation by reference in 14 CFR 71.1 of Federal Aviation Administration Order 7400.9H, Airspace Designations and Reporting Points, dated September 1, 2000, and effective September 16, 2000, is amended as follows:

Paragraph 5000 Class D Airspace.

* * * * *

ANE CT D Oxford, CT [New]

Waterbury-Oxford Airport, CT

(Lat. 41°28′43″ N, long. 73°08′07″ W)

That airspace extending upward from the surface to and including 3,200 feet MSL within a 5-mile radius of Waterbury-Oxford Airport. This Class D airspace area is effective during the specific dates and times established in advance by a Notice to Airmen. The effective date and time will thereafter be continuously published in the Airport/Facility Directory.

* * * * *

Paragraph 6004 Class E Airspace Areas Designated as Extensions to Class D Airspace Areas.

* * * * *

ANE CT E4 Oxford, CT [New]

Waterbury-Oxford Airport, CT

(Lat. 41°28′43″ N, long. 73°08′07″ W)

Waterbury NDB

(Lat. 41°31′45″ N, long. 73°08′38″ W)

That airspace extending upward from the surface within 3.6 miles on each side of the Waterbury (TBY) NDB 353° bearing extending from a 5-mile radius of Waterbury-Oxford Airport to 7.6 miles northwest of the TBY NDB. This Class E airspace area is effective during the specific dates and times established in advance by a Notice to Airmen. The effective date and time will thereafter be continuously published in the Airport/Facility Directory.

* * * * *

Issued in Burlington, MA, on April 06, 2001.
William C. Yuknewicz,
Assistant Manager, Air Traffic Division.

[FR Doc. 01-9532 Filed 4-17-01; 8:45 am]

BILLING CODE 4910-13-M